DEPARTMENT OF HEALTH AND HUMAN SERVICES

Food and Drug Administration

21 CFR Part 1240

[Docket No. FDA-2013-N-0639]

Turtles Intrastate and Interstate Requirements; Confirmation of Effective Date

AGENCY: Food and Drug Administration, HHS.

ACTION: Direct final rule; confirmation of effective date.

SUMMARY: The Food and Drug Administration (FDA) is confirming the effective date of December 9, 2013, for the final rule that appeared in the Federal Register of July 25, 2013. The direct final rule amends the regulations regarding the prohibition on the sale, or other commercial or public distribution, of viable turtle eggs and live turtles with a carapace length of less than 4 inches to remove procedures for destruction. This document confirms the effective date of the direct final rule.

DATES: The December 9, 2013, effective date for the final rule published July 25, 2013 (78 FR 44878), corrected October 25, 2013 (78 FR 63872), is confirmed.

FOR FURTHER INFORMATION CONTACT: Dillard Woody, Center for Veterinary Medicine (HFV-231), Food and Drug Administration, 7519 Standish Pl., Rockville, MD 20855, 240-276-9237, email: dillard.woody@fda.hhs.gov.

SUPPLEMENTARY INFORMATION: In the Federal Register of July 25, 2013 (78 FR 44878 at 44879), FDA solicited comments concerning the direct final rule for a 75-day period ending October 8, 2013. The document published with an incorrect effective date of “January 16, 2014.” In the Federal Register of October 25, 2013 (78 FR 63872), the effective date was corrected to read “December 9, 2013,” 135 days after publication in the Federal Register, unless any significant adverse comment was submitted to FDA during the comment period. FDA did not receive any significant adverse comments.

Authority: 42 U.S.C. 216, 243, 264, 271. Accordingly, the amendments issued thereby are effective.

Dated: November 4, 2013.
Leslie Kux,
Assistant Commissioner for Policy.

[FR Doc. 2013-26734 Filed 11-6-13; 8:45 am]

BILLING CODE 4160-01-P